DEPARTMENT OF THE INTERIOR

National Park Service

[NPS-PWR-PWRO-14060;PPPWSAMO00/PX.DSAMO0003.00.1]

Notice of Intent to Prepare a Joint Environmental Impact Statement/Environmental Impact Report for Trail Management Plan, Santa Monica Mountains National Recreation Area, Ventura and Los Angeles Counties, California

AGENCY: National Park Service, Interior.

ACTION: Notice of Intent.

SUMMARY: The original Notice of Intent to prepare the Trail Management Plan was published in the Federal Register on January 16, 2003, with an estimated completion date of 2004 for the joint EIS/EIR. The National Park Service (NPS) and state of California partner agencies conducted public scoping meetings in 2005 and gathered public comments on conceptual trail policies and map alternatives needed to prepare the Draft EIS/EIR. Owing to lack of funding, the NPS and partner agencies were unable to continue preparation of the EIS/EIR after the 2005 public scoping effort. State and federal funding for the EIS/EIR has now been secured, and the agencies are reinitiating joint preparation of the Trail Management Plan (TMP) and combined EIS/EIR. The NPS is the lead agency responsible for preparing the EIS, and the California Department of Parks and Recreation (CDPR) is the lead agency responsible for preparing the EIR. The Santa Monica Mountains Conservancy (SMMC) and the Mountains Recreation and Conservation Authority (MRCA) will be cooperating agencies in the EIS/EIR effort. Following publication of this Notice, CDPR will reissue a Notice of Preparation to initiate the preparation of a joint EIS/EIR pursuant to the requirements of the California Environmental Policy Act (CEQA).

DATES: All written public scoping comments must be postmarked or transmitted not later than April 1, 2014.

Further Information: Periodically updated materials about the integrated EIS/EIR process will be made available via mailings, regional and local news media, and at the SMMNRA TMP project Web site (http://parkplanning.nps.gov/smmnra-tmp) and the SMMNRA Web page (http://www.nps.gov/samo/parkmgmt/tmp-index.htm). For further information, contact Melanie Beck, Outdoor Recreation Planner, Santa Monica Mountains National Recreation Area, National Park Service, 401W. Hillcrest Dr., Thousand Oaks, CA 91360 (805) 370-2346.

Background: The Santa Monica Mountains National Recreation Area (SMMNRA) encompasses 153,250 acres, with approximately 84,000 acres of public parkland and protected open space, with the rest in private or other government ownership. Within the SMMNRA, there is a 500-mile public trail network made up of trails and dirt service roads. The greater Santa Monica Mountains trail network adjacent to the national recreation area features over 80 additional miles of public trails, several of which feed into the recreation area. Public lands and the trails in the national recreation area are managed by federal, state, and local agencies with varying management policies. Additionally, much of the trail network consists of utility and old ranch roads that were inherited with the land and are not necessarily constructed to public trail management standards. After almost 35 years of continuous land acquisition, the public trail network has grown significantly, and several trails now cross parkland jurisdictional boundaries. There is the need to formulate an interagency trail plan to compile trail management policies to facilitate a seamless recreational experience for a variety of trail users and to prepare a vision for the final trail network and development of trail-related facilities, ranging from trail network signs to backcountry trail camps.

The NPS, CDPR, SMMC, and MRCA will jointly prepare a TMP and integrated EIS/EIR intended to establish the overall, coordinated, long-range direction of future management and development and completion of the trail network. Based on identified desired conditions for park natural, cultural, and recreational resources, the TMP will prescribe actions to support interagency management of the trail network throughout the national recreation area. The TMP will include a trail map depicting the planned trail network use designation and management actions. The planning and environmental analysis associated with the TMP could result in a program that would modify current trail policies, recreational use patterns, and future trail openings and closures.

Scope of EIS/EIR: The Draft TMP EIS/EIR will address environmental and social impacts associated with the national recreation area's existing and proposed trail network and related facilities. Environmental issues will include, but not be limited to, sensitive plant and animal habitat, cultural and archaeological resource sites, erosion and water resources; soils and geology, and visitor safety. Social issues will include, but not be limited to, allowable uses and user conflicts on trails; trail network public access; compatibility with gateway communities and local neighborhoods; trail network and facilities compliance with Americans with Disabilities Act requirements. Feasibility of trail network management and operation will also be considered.

The Draft TMP EIS/EIR will evaluate alternative trail network designs and supportive interagency practices to manage the network. In addition to “no action” and “agency preferred” alternatives, at this time it is expected that other alternatives may be needed to address contrasting recreational use patterns. All foreseeable environmental impacts of the alternatives will be evaluated, and an “environmentally preferred” alternative will be identified. The alternatives will be based on input from the community, an evaluation of environmental constraints using current environmental condition information, trail network maintenance feasibility, and visitor recreational use surveys conducted in the national recreation area.

Public Engagement: Public scoping for a proposed interagency trail plan began with the community-based Santa Monica Mountains Area Recreational Trails (SMMART) project that culminated in the 1997 SMMART Report (available for review at www.nps.gov/samo/trails). The SMMART Report contains community and user group recommendations regarding missing links in the trail network, backcountry camps along the regional Backbone Trail System, trail network sign guidelines, multiple use trail guidelines, and trail system design. The report also put forth a list of priority coordination issues not addressed in the SMMART project, including interagency cooperation, volunteer commitment, and multi-agency trail crew and equipment sharing.

In addition, numerous trail network-related comments were received during public scoping and the Draft EIS comment period for the 2003 Santa Monica Mountains National Recreation Area General Management Plan. All relevant information derived from these two processes will be considered while preparing the Draft TMP EIS/EIR.

Following the January 2003 publication of the original Notice of Intent in the Federal Register, the NPS conducted a series of public scoping sessions in September 2005 to solicit comments on conceptual trail map alternatives. Three conceptual alternative trail network maps were presented at seven meetings held throughout the SMMNRA area. Relevant information received from 320 participants mostly concerned trail use designations, trail networks, new trailhead locations, modes of access, and amenities needed. Respondents also recommended equestrian backcountry camps along the Backbone Trail, and supported plans for managing mountain biking and the need for additional patrol and educational outreach. This information will continue to be considered while preparing the Draft TMP EIS/EIR.

Presently, the NPS anticipates hosting several public scoping meetings within SMMNRA to conclude the public scoping efforts for the Draft TMP EIS/EIR. These will be scheduled not later than two weeks prior to the end of the 60 day scoping period—confirmed details will be posted on the project Web sites, and announced via local and regional media. In addition, a scoping newsletter will be distributed to publicize meeting details and provide a summary of issues and concerns developed through past scoping efforts, as well as to present information about the overall TMP planning process. The scoping summary newsletter will be available on both the SMMNRA Web site http://www.nps.gov/samo/parkmgmt/tmp-index.htm and the TMP project Web site http://parkplanning.nps.gov/smmnra-tmp, and will mailed to the current TMP contact list.

How to Comment: The NPS encourages comments about new issues and concerns that can inform the conservation planning and environmental impact analysis for the proposed TMP. The most useful comments are those that provide new environmental information, and suggest reasonable design alternatives the park should consider while initiating TMP EIS/EIR preparation. Comments submitted previously for the 1997 SMMART project, the 2003 SMMNRA GMP, or the original TMP scoping process will also be fully considered, with no need to resubmit those comments.

All written comments must be transmitted, postmarked, or hand-delivered as follows. You may provide your response electronically at the TMP Web site http://parkplanning.nps.gov/smmnra-tmp, or you may mail or fax your written comments to Superintendent David Szymanski, Santa Monica Mountains National Recreation Area, Attn: Trail Management Plan, 401 W. Hillcrest Drive, Thousand Oaks, CA 91360, Fax (805) 370-1850. Written comments may also be hand-delivered at the public scoping meetings or to the address noted above.

Before including your address, phone number, email address, or other personal identifying information in your comment, you should be aware that your entire comment—including your personal identifying information—may be made publicly available at any time. While you can ask us in your comment to withhold your personal identifying information from public review, we cannot guarantee that we will be able to do so.

Also, comments in any format (written or electronic) submitted by an individual or organization on behalf of another individual or organization will not be accepted.

Decision Process: After analysis of all responses and information received during the scoping period, a Draft EIS/EIR will be prepared (at this time, release of the document is expected to occur in mid-2014). Availability of the Draft EIS/EIR for review and written comment will be officially announced in the Federal Register, through local and regional news media, the above-listed Web sites, and direct mailing. Comments on the draft TMP EIS/EIR will be duly considered in preparing the Final EIS/EIR. Thereafter, but not sooner than 30 days after the release of the Final EIS/EIR, a Record of Decision will be prepared for the EIS and the final steps for the EIR Notice of Determination will be followed in accordance with CEQA. As a delegated EIS, the official responsible for approving the Record of Decision is the Regional Director, Pacific West Region, National Park Service; subsequently the official responsible for NPS implementation of the approved Trail Management Plan will be the Superintendent, Santa Monica Mountains National Recreation Area.

Dated: November 13, 2013.
Christine S. Lehnertz,
Regional Director.

[FR Doc. 2014-01675 Filed 1-30-14; 8:45 am]

BILLING CODE 4312-FF-P